ENVIRONMENTAL PROTECTION AGENCY

[EPA-HQ-OW-2024-0561; FRL-12416-01-OW]

Agency Information Collection Activities; Proposed Information Collection Request; Comment Request; The 8th Drinking Water Infrastructure Needs Survey and Assessment

AGENCY: Environmental Protection Agency (EPA).

ACTION: Notice.

SUMMARY: The U.S. Environmental Protection Agency (EPA) is planning to submit an information collection request (ICR), the 8th Drinking Water Infrastructure Needs Survey and Assessment (EPA ICR Number 7798.01, OMB Control Number 2024-0561) to the Office of Management and Budget (OMB) for review and approval in accordance with the Paperwork Reduction Act. Before doing so, the EPA is soliciting public comments on specific aspects of the proposed information collection as described below. This is a request for approval of a new collection. This notice allows for 60 days for public comments.

DATES: Comments must be submitted on or before February 11, 2025.

ADDRESSES: Submit your comments, referencing Docket ID Number EPA- HQ-OW-2024-0561, to EPA online using www.regulations.gov (our preferred method), by email to OW-Docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

FOR FURTHER INFORMATION CONTACT: Tirzah Glebes, Drinking Water Infrastructure Development Division, Office of Ground Water and Drinking Water, 4606M, Environmental Protection Agency, 1200 Pennsylvania Ave. NW, Washington, DC 20460; email address: glebes.tirzah@epa.gov. John Towe, Drinking Water Infrastructure Development Division, Office of Ground Water and Drinking Water, 4606M, Environmental Protection Agency, 1200 Pennsylvania Ave. NW, Washington, DC 20460; telephone number: 202-564-2298; email address: towe.john@epa.gov.

SUPPLEMENTARY INFORMATION: This is a request for approval of a new collection. An agency may not conduct or sponsor and a person is not required to respond to a collection of information unless it displays a currently valid OMB control number.

This notice allows 60 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit https://www.epa.gov/dockets.

Pursuant to section 3506(c)(2)(A) of the PRA, EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; (iv) minimize the burden of the collection of information on those who are to respond, including through the use of appropriate forms of information technology; (v) solicit feedback on alternative suggestions for collecting lead service line information to reduce burden and obtain best quality information, including potentially using Lead and Copper Rule Revisions (LCRR) service line inventory information; (vi) solicit feedback on whether and what questions to ask Tribal systems regarding operation and maintenance needs; and (vii) solicit feedback on what questions to ask about potential barriers to accessing DWSRF funding. EPA will consider the comments received and amend the ICR as appropriate. The final ICR package will then be submitted to OMB for review and approval. At that time, EPA will issue another Federal Register notice to announce the submission of the ICR to OMB and the opportunity to submit additional comments to OMB.

Abstract: The EPA's Office of Ground Water and Drinking Water will conduct a survey to estimate the capital improvement needs of drinking water systems eligible to receive Drinking Water State Revolving Fund (DWSRF) funds. The survey is authorized by sections 1452(h) and 1452(i)(4) of the Safe Drinking Water Act (SDWA), as amended by America's Water Infrastructure Act (AWIA) of 2018. The 8th DWINSA will survey large drinking water Community Water Systems (CWSs) (serving over 100,000 persons) via a census approach and medium CWSs (serving between 3,301 and 100,000 persons) through a statistically based sample. Information collection will be facilitated by the CWSs' respective State Revolving Fund programs. The 8th Drinking Water Infrastructure Needs Survey and Assessment (DWINSA) will collect information from drinking water systems in all 50 states, Puerto Rico, the District of Columbia, and the U.S. territories (American Samoa, Guam, Northern Mariana Islands, and U.S. Virgin Islands). The 8th DWINSA will not directly collect data from small CWSs (those serving populations of 3,3000 and fewer persons), non-profit non-CWS (NPNCWSs), or American Indian or Alaska Native Village drinking water systems, except for potential operation and maintenance supplemental questions for Tribal systems only. The 8th DWINSA will estimate the capital improvement needs for these water systems by cost adjusting the needs estimates from the 7th DWINSA to reduce burden on those previous survey respondents.

The survey will collect the 20-year capital improvement needs for Community Water Systems through their submission of project information and supporting documentation. In addition, the survey will collect information and supporting documentation via its supplemental questions that address the SDWA section 1452(h)(2) requirement for the DWINSA to estimate the national cost to replace lead service lines. The EPA is exploring the potential of alternatives for collecting lead service line information to reduce burden and obtain best quality information, including potentially using LCRR service line inventory information. Supplemental questions will also be asked to identify potential barriers to accessing DWSRF funding. The EPA is exploring the potential of asking a statistical sample of Tribal systems supplemental questions on operation and maintenance needs and is seeking feedback on considerations for this approach and on potential questions to ask.

Information will be collected via an EPA-hosted website. Information will be retained within the EPA's records for the mandatory length of time after survey completion. The capital improvement needs results of the DWINSA will be used by the EPA primarily as a basis for allotting DWSRF funds among states. In addition, a national assessment improves the EPA's ability to gauge long-term (20-year) capital costs of SDWA regulations and the provision of safe drinking water to the public. The 8th DWINSA is preceded by seven DWINSAs, with the first implemented in 1995.

The effort for the 8th DWINSA will involve 2,164 respondents (2,108 water systems and 56 states), requiring 30,087 hours at a total cost to the respondents of $1,875,387. Supporting Statement A, Section 12, Estimating the Respondent Burden Hours & Labor Costs, provides a detailed description of the unit burden and costs for this collection. Note this burden estimate does not yet include the potential supplemental questions for Tribal systems. Although the Agency does not anticipate the burden of this addition to be significant compared to the total, it will capture the associated burden in the final ICR if operation and maintenance supplemental questions are included for Tribal systems.

Form Numbers: None.

Respondents/affected entities: The respondents for the 8th Drinking Water Infrastructure Needs Survey and Assessment are CWSs and State agencies.

Respondent's obligation to respond: Voluntary.

Estimated number of respondents: 2,164 respondents (total).

Frequency of response: One time.

Total estimated burden: 15,044 hours (per year). Burden is defined at 5 CFR 1320.03(b).

Total estimated cost: $937,694 (per year), which includes $0 annualized capital or operation & maintenance costs.

Changes in the Estimates: There is a decrease of 13,444 hours in the total estimated respondent burden compared with the ICR previously approved by OMB. This increase is primarily due to a decreased sample size.

Jennifer L. McLain,
Director, Office of Ground Water and Drinking Water.

[FR Doc. 2024-29403 Filed 12-12-24; 8:45 am]

BILLING CODE 6560-50-P